DEPARTMENT OF ENERGY

Federal Energy Regulatory Commission

[Project No. 14867-003]

Scott's Mill Hydro, LLC; Notice of Intent To Prepare an Environmental Assessment

On March 21, 2022, Scott's Mill Hydro, LLC (Scott's Mill) filed a license application for an original license to construct and operate the proposed 4.5-megawatt Scott's Mill Hydroelectric Project No. 14867 (Scott's Mill Project). The project would be located on the James River in Amherst and Bedford Counties, Virginia.

In accordance with the Commission's regulations, on May 22, 2025, Commission staff issued a notice that the Scott's Mill Project was ready for environmental analysis (REA notice). Based on the information in the record, including comments filed on the REA Notice, staff does not anticipate that licensing the Scott's Mill Project would constitute a major federal action significantly affecting the quality of the human environment. Therefore, staff intends to prepare an Environmental Assessment (EA) on the application to license the Scott's Mill Project.¹

¹ For tracking purposes under the National Environmental Policy Act, the unique identification number for documents relating to this environmental review is EAXX-019-20-000-1753779200.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target date
Commission issues EA | August 4, 2026.

Any questions regarding this notice may be directed to Jody Callihan at Jody.Callihan@ferc.gov or call at 202-502-8278.

Dated: August 5, 2025.
Debbie-Anne A. Reese,
Secretary.

[FR Doc. 2025-15151 Filed 8-8-25; 8:45 am]

BILLING CODE 6717-01-P